DEPARTMENT OF THE INTERIOR

National Park Service

[NPS-WASO-NAGPRA-15831; PPWOCRADN0-PCU00RP14.R50000]

Notice of Inventory Completion: University of Denver Museum of Anthropology, Denver, CO

AGENCY: National Park Service, Interior.

ACTION: Notice.

SUMMARY: The University of Denver Museum of Anthropology has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the University of Denver Museum of Anthropology. If no additional requestors come forward, transfer of control of the human remains to the Indian tribes or Native Hawaiian organizations stated in this notice may proceed.

DATES: Representatives of any Indian tribe or Native Hawaiian organization not identified in this notice that wish to request transfer of control of these human remains should submit a written request with information in support of the request to the University of Denver Museum of Anthropology at the address in this notice by July 24, 2014.

ADDRESSES: Anne Amati, University of Denver Museum of Anthropology, 2000 East Asbury Avenue, Denver, CO 80208, telephone (303) 871-2687, email anne.amati@du.edu.

SUPPLEMENTARY INFORMATION: Notice is here given in accordance with the Native American Graves Protection and Repatriation Act (NAGPRA), 25 U.S.C. 3003, of the completion of an inventory of human remains under the control of the University of Denver Museum of Anthropology, Denver, CO. Based on information possessed by the University of Denver Museum of Anthropology, the geographical affiliation of the human remains is identified as the Turkey Creek Crevice Burial (5PE4277), Pueblo County, CO.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Denver Museum of Anthropology professional staff in consultation with representatives of Arapaho Tribe of the Wind River Reservation, Wyoming; Cheyenne and Arapaho Tribes, Oklahoma (previously listed as the Cheyenne-Arapaho Tribes of Oklahoma); Comanche Nation, Oklahoma; Crow Tribe of Montana; Ely Shoshone Tribe of Nevada; Fort Belknap Indian Community of the Fort Belknap Reservation of Montana; Fort Sill Apache Tribe of Oklahoma; Keweenaw Bay Indian Community, Michigan; Mescalero Apache Tribe of the Mescalero Reservation, New Mexico; Northern Cheyenne Tribe of the Northern Cheyenne Indian Reservation, Montana; Paiute-Shoshone Tribe of the Fallon Reservation and Colony, Nevada; Pawnee Nation of Oklahoma; Pueblo of San Felipe, New Mexico; Pueblo of Santa Clara, New Mexico; Santee Sioux Nation, Nebraska; Shoshone-Bannock Tribes of the Fort Hall Reservation; Shoshone-Paiute Tribes of the Duck Valley Reservation, Nevada; Sisseton-Wahpeton Oyate of the Lake Traverse Reservation, South Dakota; Southern Ute Indian Tribe of the Southern Ute Reservation, Colorado; Ute Mountain Tribe of the Ute Mountain Reservation, Colorado, New Mexico & Utah; and Yankton Sioux Tribe of South Dakota (hereafter referred to as “The Consulting Tribes”).

History and Description of the Remains

In 1968, human remains representing, at minimum, one individual were removed from the Turkey Creek Crevice Burial (5PE4277) in Pueblo County, CO. On February 1, 1968, Paul Stewart and Lawrence Parsons found the remains weathering out of a cliff crevice. Mr. Stewart and Mr. Parsons were in the Turkey Creek area of Pueblo Reservoir making field investigations for the Bureau of Reclamation's Fryingpan-Arkansas Project. The Project office notified the archeologist who had made the survey of Pueblo Reservoir, Dr. Arnold Withers of the University of Denver. Several months passed before Dr. Withers visited the site and by then it had been vandalized. The burial was photographed and a memo written about it by employees of the Bureau of Reclamation. The burial contained an adult, flexed, head to the southeast, probably with knees partly under the body. Sex was not determined. Traces of ash and charcoal possibly indicate the individual was partly cremated. The remains were said to have a greenish cast. The memo stated that “part of the skeleton, including half the skull was later recovered and sent to the University of Denver.” No known individuals were identified. No associated funerary objects are present.

In 1998, human remains (DU#1987.1.1) were found in collections at the University of Denver Museum of Anthropology during an inventory of the Fryingpan-Arkansas Archeological collection. The remains, approximately 37 fragments of cranium, were found in a box labeled “Turkey Creek.” Approximately half of the fragments show signs of burning. The remains were of an adult and have a very faint green hue. The University of Denver Museum of Anthropology has determined that the remains found in collection (1987.1.1) were removed from the Turkey Creek Crevice Burial (5PE4277).

The Bureau of Reclamation does not believe that the geographical affiliation of the human remains found in the collection at the University of Denver Museum of Anthropology (1987.1.1) can be identified as the Turkey Creek Crevice Burial (5PE4277). Consequently, the Bureau of Reclamation and the University of Denver Museum of Anthropology have agreed that the University of Denver Museum of Anthropology shall proceed with NAGPRA compliance activities with respect to these human remains.

Determinations Made By the University of Denver Museum of Anthropology

Officials of the University of Denver Museum of Anthropology have determined that:

• Pursuant to 25 U.S.C. 3001(9), the human remains described in this notice are Native American based on the flexing and location of the burial.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of Arapaho Tribe of the Wind River Reservation, Wyoming; Cheyenne and Arapaho Tribes, Oklahoma (previously listed as the Cheyenne-Arapaho Tribes of Oklahoma); and Northern Cheyenne Tribe of the Northern Cheyenne Indian Reservation, Montana.

• Treaties, Acts of Congress, or Executive Orders, indicate that the land from which the Native American human remains were removed is the aboriginal land of Arapaho Tribe of the Wind River Reservation, Wyoming; and Cheyenne and Arapaho Tribes, Oklahoma (previously listed as the Cheyenne-Arapaho Tribes of Oklahoma).

• Other credible lines of evidence from authoritative Governmental sources, including information gathered during consultation, indicate that the land from which the Native American human remains were removed is the aboriginal land of Apache Tribe of Oklahoma; Cheyenne River Sioux Tribe of the Cheyenne River Reservation, South Dakota; Comanche Nation, Oklahoma; Crow Creek Sioux Tribe of the Crow Creek Reservation, South Dakota; Crow Tribe of Montana; Fort Sill Apache Tribe of Oklahoma; Jicarilla Apache Nation, New Mexico; Kiowa Indian Tribe of Oklahoma; Mescalero Apache Tribe of the Mescalero Reservation, New Mexico; Oglala Sioux Tribe (previously listed as the Oglala Sioux Tribe of the Pine Ridge Reservation, South Dakota); Ohkay Owingeh, New Mexico (previously listed as the Pueblo of San Juan); Pawnee Nation of Oklahoma; Pueblo of San Felipe, New Mexico; Pueblo of San Ildefonso, New Mexico; Pueblo of Santa Clara, New Mexico; Rosebud Sioux Tribe of the Rosebud Indian Reservation, South Dakota; Shoshone Tribe of the Wind River Reservation, Wyoming; Southern Ute Indian Tribe of the Southern Ute Reservation, Colorado; Standing Rock Sioux Tribe of North and South Dakota; Three Affiliated Tribes of the Fort Berthold Reservation, North Dakota; Ute Mountain Tribe of the Ute Mountain Reservation, Colorado, New Mexico & Utah; Wichita and Affiliated Tribes (Wichita, Keechi, Waco & Tawakonie), Oklahoma; and Zuni Tribe of the Zuni Reservation, New Mexico.

• Pursuant to 43 CFR 10.11(c)(1), the disposition of the human remains may be to Apache Tribe of Oklahoma; Arapaho Tribe of the Wind River Reservation, Wyoming; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Oglala Sioux Tribe (previously listed as the Oglala Sioux Tribe of the Pine Ridge Reservation, South Dakota); Ohkay Owingeh, New Mexico (previously listed as the Pueblo of San Juan); Pawnee Nation of Oklahoma; Pueblo of San Felipe, New Mexico; Pueblo of San Ildefonso, New Mexico; Pueblo of Santa Clara, New Mexico; Rosebud Sioux Tribe of the Rosebud Indian Reservation, South Dakota; Shoshone Tribe of the Wind River Reservation, Wyoming; Southern Ute Indian Tribe of the Southern Ute Reservation, Colorado; Standing Rock Sioux Tribe of North and South Dakota; Three Affiliated Tribes of the Fort Berthold Reservation, North Dakota; Ute Mountain Tribe of the Ute Mountain Reservation, Colorado, New Mexico & Utah; Wichita and Affiliated Tribes (Wichita, Keechi, Waco & Tawakonie), Oklahoma; and Zuni Tribe of the Zuni Reservation, New Mexico.

Additional Requestors and Disposition

Representatives of any Indian tribe or Native Hawaiian organization not identified in this notice that wish to request transfer of control of these human remains should submit a written request with information in support of the request to Anne Amati, University of Denver Museum of Anthropology, 2000 E. Asbury Avenue, Denver, CO 80208, telephone (303) 871-2687, email anne.amati@du.edu, by July 24, 2014. After that date, if no additional requestors have come forward, transfer of control of the human remains to Apache Tribe of Oklahoma; Arapaho Tribe of the Wind River Reservation, Wyoming; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Oglala Sioux Tribe (previously listed as the Oglala Sioux Tribe of the Pine Ridge Reservation, South Dakota); Ohkay Owingeh, New Mexico (previously listed as the Pueblo of San Juan); Pawnee Nation of Oklahoma; Pueblo of San Felipe, New Mexico; Pueblo of San Ildefonso, New Mexico; Pueblo of Santa Clara, New Mexico; Rosebud Sioux Tribe of the Rosebud Indian Reservation, South Dakota; Shoshone Tribe of the Wind River Reservation, Wyoming; Southern Ute Indian Tribe of the Southern Ute Reservation, Colorado; Standing Rock Sioux Tribe of North and South Dakota; Three Affiliated Tribes of the Fort Berthold Reservation, North Dakota; Ute Mountain Tribe of the Ute Mountain Reservation, Colorado, New Mexico & Utah; Wichita and Affiliated Tribes (Wichita, Keechi, Waco & Tawakonie), Oklahoma; and Zuni Tribe of the Zuni Reservation, New Mexico, may proceed.

The University of Denver Museum of Anthropology is responsible for notifying The Consulting Tribes that this notice has been published.

Dated: May 15, 2014.
Sherry Hutt,
Manager, National NAGPRA Program.

[FR Doc. 2014-14725 Filed 6-23-14; 8:45 am]

BILLING CODE 4312-50-P